DEPARTMENT OF ENERGY

Federal Energy Regulatory Commission

[Docket No. RP00-39-002]

Natural Gas Pipeline Company of America; Notice of Compliance Filing

February 24, 2000.

Take notice that on February 7, 2000, Natural Gas Pipeline Company of America (Natural) tendered for filing to become part of its FERC Gas Tariff, Sixth Revised Volume No. 1, Substitute First Revised Sheet No. 344, to be effective February 1, 2000.

Natural states that the filing is submitted in compliance with the Commission's order issued February 1, 2000 in Docket No. RP00-39-001 (February 1st Order), which directed Natural to file a revised tariff sheet to remove reference to any damages to the facilities of any third-party and clarifying that “receiving party” as stated in new Section 26.3(b) of the General Terms and Conditions of Natural's Tariff refers to Natural as the transporter and no other party.

Natural requested any waivers which may be required to permit Substitute First Revised Sheet No. 344 to become effective February 1, 2000, consistent with the February 1st Order.

Natural states that copies of the filing have been mailed to its customers, interested state regulatory agencies and all parties set out on the Commission's official service list in Docket No. RP00-39.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-4898 Filed 2-29-00; 8:45 am]

BILLING CODE 6717-01-M